DEPARTMENT OF TRANSPORTATION

Federal Transit Administration

Establishment of the Federal Transit Administration Advisory Committee for Transit Safety

AGENCY: Federal Transit Administration (FTA), DOT.

ACTION: Notice of intent to establish a Federal Advisory Committee.

SUMMARY: On November 23, 2009, the Secretary of Transportation authorized the establishment of a Federal Advisory Committee to address transit safety issues. The Transit Rail Advisory Committee for Safety (TRACS) will consist of up to 25 voting members and will provide recommendations to the Secretary of Transportation through the Federal Transit Administrator regarding transit safety and other issues.

DATES: This charter is effective on December 8, 2009.

FOR FURTHER INFORMATION CONTACT: Mike Flanigon, Director, Office of Safety and Security, Federal Transit Administration, 202-366-0235 or Mike.Flanigon@dot.gov.

SUPPLEMENTARY INFORMATION

I. Background

Nationwide, rail transit is considered one of the safest modes of transportation with more than 7 million people boarding rail transit vehicles in the United States each day. Transit agencies have fewer fatalities and injuries than does any other mode of transportation. Over the last five years, however, the industry's safety record, while still low, has deteriorated. Rates per million passenger miles between 2003 and 2008 on rail transit systems, not regulated by Federal Railroad Administration are as follows:

Derailment rates are up from 0.23 to 0.38. Collision rates are up from 0.2 to 0.8 .

Passenger Fatality rates are up from 0.43 to 0.60 (all causes except suicide).

Passenger fatality rates from train collisions have held steady at 1 per year (9 in 2009).

Employee right of way fatalities are steady at 3 per year (double the average number during the previous 15 years).

Major accidents in Chicago, Washington, DC, San Francisco, and Boston have captured the attention of the public and raised widespread concern regarding the industry's commitment to the safety of its passengers and employees. For example, the 2006 derailment of a CTA Blue Line train in Chicago involved aging infrastructure that did not meet agency safety standards and yet remained in service.

In response to this series of accidents, the Secretary of Transportation established the Rail Transit Safety Work Group, an internal Departmental work group with representatives from several administrations, to evaluate the Federal role in transit safety. After deliberating, the work group recommended that the Secretary establish an advisory committee for transit safety. The Secretary accepted the recommendation and authorized the establishment of an advisory committee for the purpose of analyzing transit safety issues and developing recommendations for minimum, national transit safety standards.

The establishment of an advisory committee for transit safety serves the public interest by providing a forum for the development, consideration, and communication of information from knowledgeable and independent perspectives. The level of expertise and balanced viewpoints of this committee will enable early identification of potential problem areas and accelerate corrective actions, thereby creating greater safety and public confidence in the Nation's public transportation systems.

In accordance with the requirements of the Federal Advisory Committee Act, 5 U.S.C. App. 2 (FACA), the Federal Transit Administration (FTA) is publishing this notice to announce the Secretary's intent to establish an advisory committee. The Transit Rail Advisory Committee for Safety (TRACS) will have the objective to provide advice and recommendations to the Administrator of FTA regarding transit safety issues.

No determination of fact or policy will be made by the TRACS. The TRACS will meet as necessary to carry out its duties, but is expected to meet at least twice a year. Meetings of subcommittees or work groups may occur more frequently. The FTA Administrator on behalf of the Secretary of Transportation will name an Executive Director for the committee who will also serve as the Designated Federal Official responsible for ensuring compliance with the requirements of FACA. Members of the public may review the draft charter for TRACS at FTA's Web site located at http://fta.dot.gov.

Issued this 24th day of November, 2009, in Washington, DC.
Peter M. Rogoff,
Administrator.

[FR Doc. E9-28532 Filed 11-24-09; 4:15 pm]

BILLING CODE P